DEPARTMENT OF TRANSPORTATION

Federal Railroad Administration

[Docket No. FRA-2015-0007-N-27]

Proposed Agency Information Collection Activities; Comment Request

AGENCY: Federal Railroad Administration (FRA), Department of Transportation (DOT).

ACTION: Notice and request for comments.

SUMMARY: In compliance with the Paperwork Reduction Act of 1995, this notice announces that the renewal Information Collection Request (ICR) abstracted below is being forwarded to the Office of Management and Budget (OMB) for review and comment. The ICR describes the nature of the information collection and its expected burden. The Federal Register notice with a 60-day comment period soliciting comments on the following collections of information was published on August 5, 2015.

DATES: Comments must be submitted on or before November 27, 2015.

FOR FURTHER INFORMATION CONTACT: Mr. Robert Brogan, Safety Regulatory Analysis Division, RRS-21, Federal Railroad Administration, 1200 New Jersey Ave. SE., Mail Stop 25, Washington, DC 20590 (Telephone: (202) 493-6292), or Ms. Kimberly Toone, Office of Information Technology, RAD-20, Federal Railroad Administration, 1200 New Jersey Ave. SE., Mail Stop 35, Washington, DC 20590 (Telephone: (202) 493-6132). (These telephone numbers are not toll-free.)

SUPPLEMENTARY INFORMATION: The Paperwork Reduction Act of 1995 (PRA), Public Law 104-13, sec. 2, 109 Stat. 163 (1995) (codified as revised at 44 U.S.C. 3501-3520), and its implementing regulations, 5 CFR part 1320, require Federal agencies to issue two notices seeking public comment on information collection activities before OMB may approve paperwork packages. 44 U.S.C. 3506, 3507; 5 CFR 1320.5, 1320.8(d)(1), and 1320.12. On August 5, 2015, FRA published a 60-day notice in the Federal Register soliciting comment on ICR that the agency is seeking OMB approval. See 80 FR 35712. FRA received one comment in response to this notice.

The Association of American Railroads submitted a comment on October 5 on behalf of its member railroads and itself. In its letter, AAR recommended four changes to the PTC Implementation Status Update Questionnaire. First, AAR recommended that FRA adjust its estimate of the amount of time required to fill out each questionnaire/form (Form FRA F 6180.162).

Second, AAR/its members recommended that FRA “clarify the second survey question,” which relates to the “current number of full mission capable PTC equipped locomotives completely implemented under the regulation.” In particular, “the railroads recommend that FRA specify that this question pertains to the locomotives which have been fully equipped with PTC hardware.”

Third, AAR/its members recommended that “FRA clarify the fourth survey question,” which relates to the “. . . current number of fully mission capable PTC equipped track segments completely implemented under the regulations. The railroads recommend that FRA refer to track miles instead of the unclear reference to ‘track segment.’ ”

Last, AAR stated “the railroads request that FRA ensures that the comment box for the fourteenth question be large enough to accept substantial comments regarding the status of each individual railroad's PTC implementation status.”

Regarding AAR's first recommendation, FRA based its estimate on the average amount of time that it would take all railroads—Class Is, Class IIs, Class IIIs, and passenger railroads—to complete the questionnaire each month on an ongoing basis. FRA realizes that it might take some railroads longer than the estimated average amount of time to complete the questionnaire. However, FRA does not agree with AAR's comment that it will take all affected railroads an average of three hours each month to complete the questionnaire. FRA believes that 30 minutes is a more accurate estimate of the average amount of time that it will take railroads to complete the questionnaire on a recurring monthly basis. Accordingly, FRA is modifying its estimate to reflect this higher number.

Regarding AAR's second recommendation relating to the second survey question, FRA is modifying footnote number 2 of the questionnaire to make clear that this question pertains to locomotives fully equipped with PTC hardware and software.

Regarding AAR's third recommendation, FRA is taking a flexible approach and is modifying footnote number 3 of the questionnaire to state that railroads use a uniform unit of measurement that is consistent for the fourth survey question. Thus, track miles would be fine as a uniform unit of measurement.

Last, regarding AAR's recommendation about enlarging the comment box for the fourteenth question, FRA is expanding the comment box to the maximum number of characters permitted on the electronic version of the questionnaire/form.

Before OMB decides whether to approve these proposed collections of information, it must provide 30 days for public comment. 44 U.S.C. 3507(b); 5 CFR 1320.12(d). Federal law requires OMB to approve or disapprove paperwork packages between 30 and 60 days after the 30 day notice is published. 44 U.S.C. 3507(b)-(c); 5 CFR 1320.12(d); see also 60 FR 44978, 44983, Aug. 29, 1995. OMB believes that the 30 day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summary below describes the nature of the information collection request (ICR) and the expected burden. The revised request is being submitted for clearance by OMB as required by the PRA.

Title: PTC Implementation Status Update Questionnaire.

OMB Control Number: 2130-0612.

Abstract: The statutory and regulatory deadline for Positive Train Control (PTC) system implementation is December 31, 2015. Congress and FRA are concerned that the railroads will not make the mandated deadline. To date, the vast majority of railroads have not submitted, in accordance with 49 CFR 236.1009 and 236.1015, a PTC Safety Plan (PTCSP) and have not submitted, in accordance with 49 CFR 236.1035, a request for testing approval to support a PTCSP, which is necessary to achieve PTC System Certification and operate in revenue service. So that Congress and FRA may better understand the status of each railroad's implementation efforts and be able to monitor affected railroads progress on a continuing basis until full implementation is achieved, FRA is seeking accurate and up-to-date information under its investigative authority pursuant to 49 U.S.C. 20103, 20107, and 20902, and 49 CFR 236.1009(h). The railroads' responses will also be used for compliance purposes.

On July 24, 2015, OMB granted Emergency Processing approval for the PTC Implementation Status Update Questionnaire information collection for a period of 180 days. This approval currently expires on January 31, 2016. FRA is now seeking a three-year approval under Regular Clearance Procedures from the Office of Management and Budget (OMB).

Type of Request: Extension with Change of an Approved Information Collection previously approved under Emergency Processing Procedures.

Affected Public: Businesses (Railroads).

Form(s): FRA F 6180.162.

Total Annual Estimated Responses: 456.

Total Annual Estimated Burden: 228 hours.

Addressee: Send comments regarding these information collections to the Office of Information and Regulatory Affairs, Office of Management and Budget, 725 Seventeenth Street NW., Washington, DC 20503, Attention: FRA Desk Officer. Comments may also be sent via email to OMB at the following address: oira_submissions@omb.eop.gov.

Comments are invited on the following: Whether the proposed collections of information are necessary for the proper performance of the functions of the Department, including whether the information will have practical utility; the accuracy of the Department's estimates of the burden of the proposed information collections; ways to enhance the quality, utility, and clarity of the information to be collected; and ways to minimize the burden of the collections of information on respondents, including the use of automated collection techniques or other forms of information technology.

A comment to OMB is best assured of having its full effect if OMB receives it within 30 days of publication of this notice in the Federal Register.

Authority: 44 U.S.C. 3501-3520.

Issued in Washington, DC, on October 20, 2015.
Corey Hill,
Acting Executive Director.

[FR Doc. 2015-27195 Filed 10-26-15; 8:45 am]

BILLING CODE 4910-06-P